NUCLEAR REGULATORY COMMISSION

[Docket No. 50-461; NRC-2025-1039]

Constellation Energy Generation, LLC; Clinton Power Station, Unit 1; Exemption

AGENCY: Nuclear Regulatory Commission.

ACTION: Notice; issuance.

SUMMARY: The U.S. Nuclear Regulatory Commission (NRC) staff has issued an exemption from the requirement in NRC regulations that would otherwise require the application for renewal of Facility Operating License No. NPF-62 for Clinton Power Station, Unit 1, to be referred to the Advisory Committee on Reactor Safeguards for a review and report, with any report being made part of the record of the application and made available to the public, except to the extent that security classification prevents disclosure.

DATES: The exemption was issued on August 29, 2025.

ADDRESSES: Please refer to Docket ID NRC-2025-1039 when contacting the NRC staff about the availability of information regarding this document. You may obtain publicly available information related to this document using any of the following methods:

• Federal Rulemaking Website: Go to https://www.regulations.gov and search for Docket ID NRC-2025-1039. Address questions about Docket IDs in Regulations.gov to Bridget Curran; telephone: 301-415-1003; email: Bridget.Curran@nrc.gov. For technical questions, contact the individual(s) listed in the For Further Information Contact section of this document.

• NRC's Agencywide Documents Access and Management System (ADAMS): You may obtain publicly available documents online in the ADAMS Public Documents collection at https://www.nrc.gov/reading-rm/adams.html. To begin the search, select “Begin Public ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Vaughn Thomas, Office of Nuclear Reactor Regulation, U.S. Nuclear Regulatory Commission, Washington, DC 20555-0001, telephone: 301-415-5897; email: Vaughn.Thomas@nrc.gov.

SUPPLEMENTARY INFORMATION: The text of the exemption is attached.

Dated: September 5, 2025.
For the Nuclear Regulatory Commission.
Vaughn Thomas,
Project Manager, License Renewal Projects Branch, Division of New and Renewed Licenses, Office of Nuclear Reactor Regulation.

Attachment—Exemption

NUCLEAR REGULATORY COMMISSION

Docket No. 50-461; Constellation Energy Generation, LLC; Clinton Power Station, Unit 1; Exemption

AGENCY: Nuclear Regulatory Commission.

ACTION: Notice; issuance.

SUMMARY: The U.S. Nuclear Regulatory Commission (NRC) is issuing an exemption from the requirement in Title 10 of the Code of Federal Regulations (10 CFR) Part 54.25, “Report of the Advisory Committee on Reactor Safeguards,” that would otherwise require the application for renewal of Facility Operating License No. NPF-62 for Clinton Power Station (CPS), Unit 1, to be referred to the Advisory Committee on Reactor Safeguards (ACRS) for a review and report, with any report being made part of the record of the application and made available to the public, except to the extent that security classification prevents disclosure. The NRC, using the requirement in 10 CFR 54.15, “Specific exemptions,” (invoking the process in 10 CFR 50.12, Specific exemptions”), finds the criteria of 10 CFR 50.12 are met due to the special circumstance presented by Executive Order (E.O.) 14300 (90 FR 22587), “Ordering the Reform of the Nuclear Regulatory Commission,” section 4(b) (stating that review by ACRS of permitting and licensing issues shall focus on issues that are truly novel or noteworthy).

I. Background

Constellation Energy Generation, LLC (CEG) is the holder of Facility Operating License No. NPF-62 for CPS, Unit No. 1. The license provides, among other things, that the licensee is subject to all rules, regulations, and orders of the Commission now or hereafter in effect. CPS, Unit 1 is a General Electric boiling water reactor with a Mark 3 containment licensed to operate at 3,473 megawatts thermal. CPS, Unit 1, is located near Clinton, Illinois.

On February 14, 2024, CEG submitted to the NRC an application for renewal of the CPS, Unit 1 Facility Operating License No. NPF-62, pursuant to 10 CFR part 54, “Requirements for Renewal of Operating Licenses for Nuclear Power Plants” requesting renewal for a period of 20 years beyond the current facility operating license expiration on April 17, 2027 (ML24045A026). A final decision on the application is expected on or about October 9, 2025.

Under 10 CFR 54.25, “[e]ach renewal application will be referred to the [ACRS] for a review and report. Any report will be made part of the record of the application and made available to the public, except to the extent that security classification prevents disclosure.” The December 31, 1991 rulemaking that promulgated 10 CFR 54.25 (Nuclear Power Plant License Renewal, (56 FR 64943, 64966)) noted that review by the ACRS was desirable but such review was not required by statute.

On May 23, 2025, the President issued E.O. 14300 (90 FR 22587), “Ordering the Reform of the Nuclear Regulatory Commission,” and section 4(b) of E.O. 14300 states that “[r]eview by ACRS of permitting and licensing issues shall focus on issues that are truly novel or noteworthy.”

On August 29, 2025, the NRC staff issued a Safety Evaluation (SE) (ML25238A215) documenting the NRC staff's review of the application.

II. Action

In light of E.O. 14300, the status of the review of the license renewal application for CPS, Unit 1, and the fact that the NRC staff found no “truly novel or noteworthy” issues in the application that would benefit from ACRS review, the NRC staff determined that a staff-initiated exemption to 10 CFR 54.25 was warranted and should be granted. Pursuant to 10 CFR 54.15, exemptions from the requirements of 10 CFR part 54 may be granted by the Commission in accordance with 10 CFR 50.12. Per 10 CFR 50.12(a), “[t]he Commission may, upon application by any interested person or upon its own initiative, grant exemptions from the requirements of the regulations of this part,” when certain conditions are met. Further, per 10 CFR 50.12(a)(2), the Commission will not consider granting an exemption unless special circumstances are present. Under 10 CFR 50.12(b)(vi), special circumstances are present whenever there is present any other material circumstance not considered when the regulation was adopted for which it would be in the public interest to grant an exemption, but if such condition is relied on exclusively for satisfying paragraph (a)(2), then the exemption may not be granted until the Executive Director for Operations has consulted with the Commission. The NRC staff has determined that those criteria are met and an exemption from 10 CFR 54.25 may be granted for the reasons explained below.

III. Discussion

As described in 10 CFR 1.13, the ACRS was established by the Atomic Energy Act of 1954 (AEA), as amended. Among other things, the ACRS reviews and reports on safety studies and applications for construction permits and facility operating licenses and reviews any generic issues or other matters referred to it by the Commission for advice.

Paragraph 10 CFR 54.25, as originally promulgated in 1991, requires that “[e]ach renewal application will be referred to the [ACRS] for a review and report. Any report will be made part of the record of the application and made available to the public, except to the extent that security classification prevents disclosure.” The December 31,1991 rulemaking notice explained (56 FR 64966) the background of the requirement thusly:

Section 182.b of the AEA states:

The ACRS shall review each application under section 103 or section 104b. for a construction permit or an operating license for a facility, any application under section 104c. for a construction permit or an operating license for a testing facility, any application under section 104a. or c. specifically referred to it by the Commission, and any application for an amendment to a construction permit or an amendment to an operating license under section 103 or 104a., b., or c. specifically referred to it by the Commission * * *

Section 182.b does not explicitly refer to applications for renewal of an operating license as requiring ACRS review. However, The Commission believes that review by the ACRS is desirable. Accordingly, § 54.25 of the final rule requires ACRS review of a license renewal application.

The Commission has not changed 10 CFR 54.25 since its initial issuance in 1991. Further, no subsequent amendments of the AEA have set forth a requirement for the ACRS to review an application for a renewed license.

10 CFR 54.15, states that “[e]xemptions from the requirements of this part may be granted by the Commission in accordance with 10 CFR 50.12.” Pursuant to 10 CFR 50.12(a)(1), the Commission may, “upon application by any interested person or upon its own initiative, grant exemptions from the requirements of the regulations of this part, which are authorized by law, will not present an undue risk to the public health and safety, and are consistent with the common defense and security.”

Exemptions Are Authorized by Law

For an exemption to be authorized by law the item to be exempted cannot be required by statute. The requirement in 10 CFR 54.25 is not required by the AEA, nor required by any other law. As noted by the Commission in 1991 (56 FR at 64,966), the AEA does not explicitly refer to applications for renewal of an operating license as requiring ACRS review. This remains true today. Accordingly, the NRC staff finds that the exemption is authorized by law.

Exemption Will Not Present an Undue Risk to the Public Health and Safety

The standards and criteria that must be met before the Commission issues a renewed license are not affected by an exemption to 10 CFR 54.25. After an exemption to 54.25, the regulation at 10 CFR 54.29 will continue to set forth the safety criteria that must be met before a renewed license may be issued by the Commission. The NRC staff, which has a robust process for reviewing applications for renewed licenses, has completed its detailed review of how the CPS, Unit 1, application addressed the standards of 10 CFR 54.29 (and other relevant regulations). The result of the safety review is documented in an August 29, 2025, SE report. The already-completed reviews by the NRC staff confirmed that the application did not contain anything “truly novel or noteworthy,” thereby assuring that an exemption from the 10 CFR 54.25 requirement to refer the application to ACRS will not present an undue risk to public health and safety.

Exemption Is Consistent With the Common Defense and Security

The NRC staff has determined that the exemption from ACRS review of the CPS license renewal application does not impact common defense and security in large part because the common defense and security are not within the scope of the license renewal review that is concerned with aging effects. When promulgating revisions to the license renewal rules (60 FR 22461, 22463-64) in 1995, the Commission re-affirmed its philosophy that the existing regulatory process is adequate to ensure that the licensing bases of all currently operating plants provides and maintains an acceptable level of safety so that operation will not be inimical to public health and safety or common defense and security. The exemption from ACRS review otherwise required by 10 CFR 54.25, does not alter any common defense or security matter or regulation. Thus, the exemption is consistent with common defense and security.

Special Circumstances Are Present

Pursuant to 10 CFR 50.12(a)(2), the Commission will not consider granting an exemption unless special circumstances are present. 10 CFR 50.12(a)(2)(vi) states that special circumstances are present when, “[t]here is present any other material circumstance not considered when the regulation was adopted for which it would be in the public interest to grant an exemption. If such condition is relied on exclusively for satisfying paragraph (a)(2) of this section, the exemption may not be granted until the Executive Director for Operations has consulted with the Commission.”

The 2025 E.O. 14300 did not, of course, exist when 10 CFR 54.25 was promulgated in 1991. Thus E.O. 14300 was not, and could not, be considered when 10 CFR 54.25 was issued with a blanket requirement that renewal applications be referred to ACRS. Section 4(b) of E.O. 14300 states that the “[r]eview by ACRS of permitting and licensing issues shall focus on issues that are truly novel or noteworthy.” The NRC staff determined that there were no “truly novel or noteworthy” issues in the CPS, Unit 1, license renewal application. To make a determination that the CPS, Unit 1, application contained no novel or noteworthy issues, the NRC staff drew upon its demonstrated past experience with a total of 90 approved license renewal applications and 13 approved subsequent license renewal applications. When those past reviews identified novel or noteworthy issues (e.g., issues related to buried gray cast iron piping), the NRC staff took appropriate action. However, no such issues are present in the CPS, Unit 1, application. Accordingly, because the Commission did not specifically refer this application for ACRS review, there are no “truly novel or noteworthy” issues in the CPS, Unit 1, application. Furthermore, since E.O. 14300 was recently issued, the NRC staff finds that special circumstances are present pursuant to 10 CFR 50.12(a)(2). Thus, given that following E.O. 14300 is in the public interest, the E.O. represents the special circumstance under 10 CFR 50.12(a)(2)(vi) and an exemption from 54.25 is warranted. In fulfillment of 10 CFR 50.12(a)(2)(vi), the EDO consulted with the Commission.

Environmental Consideration

This exemption removes the requirement in 10 CFR 54.25 to refer the renewal application to the ACRS for a review and report, with any report being made part of the record of the application and made available to the public, except to the extent that security classification prevents disclosure. The NRC staff has determined that this exemption does not have an effect on the human environment and therefore, a categorical exclusion under 10 CFR 51.22 is appropriate.

Under 10 CFR 51.22(a), licensing, regulatory, and administrative actions eligible for categorical exclusion shall meet the following criterion, namely that “[t]he action belongs to a category of actions which the Commission, by rule or regulation, has declared to be a categorical exclusion, after first finding that the category of actions does not individually or cumulatively have a significant effect on the human environment.” Under 10 CFR 51.22(c)(25) categories of actions that are categorical exclusions include granting of an exemption from the requirements of any regulation of this 10 CFR Chapter I, provided that: (i) there is no significant hazards consideration; (ii) there is no significant change in the types or significant increase in the amounts of any effluents that may be released offsite; (iii) there is no significant increase in individual or cumulative public or occupational radiation exposure; (iv) there is no significant construction impact; (v) there is no significant increase in the potential for or consequences from radiological accidents; and (vi) the requirements from which an exemption is sought involving an item listed in 10 CFR 51.22(c)(25)(vi)(A)-(I); 10 CFR 51.22(c)(25)(vi)(A), (B), and (I) are “recordkeeping requirements,” “reporting requirements,” or “other requirements of an administrative, managerial, or organizational nature,” respectively. As explained below, these criteria are satisfied.

An exemption involves no significant hazards consideration if, as provided in 10 CFR 50.92(c), operation of the facility in accordance with the proposed exemption would not: “(1) [i]nvolve a significant increase in the probability or consequences of an accident previously evaluated; or (2) [c]reate the possibility of a new or different kind of accident from any accident previously evaluated; or (3) [i]nvolve a significant reduction in a margin of safety.” This exemption has no bearing on the operation of the CPS and the NRC staff identified no “truly novel or noteworthy” issues for an ACRS review. Referring (or declining to refer) the application to the ACRS does not change any manner in which CPS would operate, and accordingly the factors above are met. The requirement in 10 CFR 54.25 for the application to be referred to the ACRS for review and report, with any report being made part of the record of the application, fit within 10 CFR 51.22(c)(25)(vi)(A), (B), and (I) in that they involve “recordkeeping requirements,” “reporting requirements,” and “other requirements of an administrative, managerial, or organizational nature.” Accordingly, an exemption from 10 CFR 54.25 meets the eligibility criteria for categorical exclusion set forth in 10 CFR 51.22(c)(25). Pursuant to 10 CFR 51.22(b), no environmental impact statement or environmental assessment need be prepared in connection with the issuance of the exemption.

IV. Conclusions

Accordingly, the Commission has determined that, pursuant to 10 CFR 54.15 “Specific exemptions,” (stating that exemptions from the requirements of 10 CFR part 54 may be granted by the Commission in accordance with 10 CFR 50.12), an exemption from 10 CFR 54.25 requirement to send the CPS, Unit 1, license renewal application to the ACRS for review is granted. The standards of 10 CFR 50.12(a) are met in that the exemption from 10 CFR 54.25 is authorized by law, will not present an undue risk to the public health and safety, and is consistent with the common defense and security, and special circumstances are present, and the EDO has consulted with the Commission. Therefore, the renewal application is no longer required to be referred to the ACRS for a review and report.

The exemption is effective upon issuance.

Dated at Rockville, Maryland, this 29th day of August, 2025.

For the Nuclear Regulatory Commission.

/RA/ (Lauren Gibson for)

Michele Sampson,

Director, Division of New and Renewed Licenses, Office of Nuclear Reactor Regulation.

[FR Doc. 2025-17282 Filed 9-8-25; 8:45 am]

BILLING CODE 7590-01-P